DEPARTMENT OF THE INTERIOR

Bureau of Ocean Energy Management

[OMB Control Number 1010-NEW; Docket ID: BOEM-2025-0007]

Agency Information Collection Activities; United States West Coast Port Infrastructure Survey

AGENCY: Bureau of Ocean Energy Management, Interior.

ACTION: Notice of information collection; request for comments.

SUMMARY: In accordance with the Paperwork Reduction Act of 1995, the Bureau of Ocean Energy Management (BOEM) is proposing a new information collection request (ICR).

DATES: Comments must be received by BOEM no later than October 10, 2025.

ADDRESSES: Send written comments on this ICR by mail to the BOEM Information Collection Clearance Officer, Anna Atkinson, Bureau of Ocean Energy Management, 45600 Woodland Road, Sterling, Virginia 20166; or by email to anna.atkinson@boem.gov. Please reference Office of Management and Budget (OMB) control number 1010-NEW in the subject line of your comments. You may comment on the ICR and view related documents by searching for the docket number “BOEM-2025-0007” at https://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point of contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments that you submit in response to this notice are a matter of public record. BOEM will include or summarize each comment in its ICR to OMB for approval of this information collection. You should be aware that your entire comment—including your address, phone number, email address, or other personally identifiable information included in your comment—may be made publicly available at any time. Even if BOEM withholds your personally identifiable information in the context of this ICR, your comment is subject to the Freedom of Information Act (FOIA) (5 U.S.C. 552). Your information will only be withheld if a determination is made that one of the FOIA exemptions to disclosure applies. Such a determination will be made in accordance with the Department of the Interior (DOI)'s FOIA implementing regulations (43 CFR part 2) and applicable laws.

In order for BOEM to consider withholding from disclosure your personally identifiable information, you must identify, in a cover letter, any information contained in the submittal of your comments that, if released, would constitute a clearly unwarranted invasion of your personal privacy. You must also briefly describe any possible harmful consequences of the disclosure of information, such as embarrassment, injury, or other harm. Note that BOEM will make available for public inspection, in their entirety, all comments submitted by organizations and businesses, or by individuals identifying themselves as representatives of organizations or businesses.

BOEM protects proprietary information in accordance with FOIA, DOI's implementing regulations (43 CFR part 2), and 30 CFR 580.70, promulgated pursuant to the Outer Continental Shelf Lands Act (43 U.S.C. 1352(c)).

Title of Collection: “United States West Coast Port Infrastructure Survey”

Abstract: BOEM proposes to gather information about the use of U.S. West Coast port infrastructure and how offshore energy activities, including decommissioning of oil and gas platforms, may affect port-based industries, especially those related to commercial and recreational fishing. The data gathered will be synthesized with other information to produce a final report as well as summary of port profiles that will inform BOEM planning and decision-making. The final report and port profiles will help ensure that future activities related to offshore energy can avoid, minimize, or offset potential space-use conflicts and enhance space-use synergies among port-based industries (especially commercial fishing) when interacting with the offshore energy industry.

BOEM seeks OMB approval for a set of standardized questions for stakeholders that will document existing port infrastructure, services, and their uses so future activities related to offshore energy, including decommissioning of oil and gas platforms, can avoid, minimize, or offset potential conflicts and enhance beneficial opportunities among port-based industries. The insights gained from this feedback are critical for BOEM's planning, environmental reviews, Coastal Zone Management Act determinations, local harbor planning, and inter-industry negotiations.

The survey consists of approximately 30 questions asking about topics that include availability of port infrastructure and fishery-related facilities; historical and projected facility use; economic and cultural benefits of port industries and presence; level of concern about potential impacts of offshore energy, including decommissioning of oil and gas platforms, on port users; the importance of port infrastructure to local Tribes; and further comments and suggestions. The survey would be available in an online format or in a printed format that would be distributed to potential respondents. Respondents will also have the option to respond to the survey through an onsite interview. Interviews will be for the purpose of answering and clarifying the survey questions only; no new questions will be introduced.

OMB Control Number: 1010-NEW.

Type of Review: New.

Respondents/Affected Public: Port authority staff and port commissioners; representatives of commercial and recreational fishing associations; State commissioners with responsibilities related to fish and wildlife and/or port planning and development; commercial fish processing facility managers; local business owners; Tribal representatives who use U.S. West Coast ports for fishing activities; and individuals with expertise in State consistency reviews. Respondents will be selected from the States of Washington, Oregon, and California and from 20 ports on the West Coast chosen using statistical criteria.

Total Estimated Number of Annual Responses: 432.

Estimated Completion Time per Response: 45 minutes for the online survey; 1 hour for an in-person interview.

Total Estimated Number of Annual Burden Hours: 432 hours.

Respondent's Obligation: Voluntary.

Frequency of Collection: One time.

Total Estimated Annual Non-hour Burden Cost: None.

An agency may not conduct or sponsor, and a person is not required to respond to, a collection of information unless it displays a currently valid OMB control number.

The authority for this action is the Paperwork Reduction Act of 1995 (44 U.S.C. 3501 et seq.).

Karen Thundiyil,
Director, Office of Regulatory Affairs, Bureau of Ocean Energy Management.

[FR Doc. 2025-15203 Filed 8-8-25; 8:45 am]

BILLING CODE 4340-98-P